DEPARTMENT OF DEFENSE

Office of the Secretary

[Transmittal No. 17-70]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 17-70 with attached Policy Justification; Sensitivity of Technology; and State Department Emergency Determination and Justification.

Dated: July 19, 2019.
Aaron T. Siegel,
Alternate OSD Federal Register Liaison Officer, Department of Defense.

BILLING CODE 5001-06-P

BILLING CODE 5001-06-C

Transmittal No. 17-70

Notice of Proposed Issuance of Letter of Offer Pursuant to Section 36(b)(1) of the Arms Export Control Act, as amended

(i) Prospective Purchaser: Government of the United Arab Emirates

(ii) Total Estimated Value:

Major Defense Equipment * | $ 92 million
Other | $ 10 million
TOTAL | $102 million

(iii) Description and Quantity or Quantities of Articles or Services under Consideration for Purchase:

Major Defense Equipment (MDE):

Three hundred thirty-one (331) Javelin Guided Missiles with Containers

Non-MDE:

Also included are System Integration & Checkout (SICO) service; Field Service Representative; U.S. Government and contractor technical, engineering and logistics support services' tools and test equipment; support equipment; publications and technical documentation; spare and repair parts; and other related elements of logistics and program support.

(iv) Military Department: Army (AE-B-ZAO, Amendment 3)

(v) Prior Related Cases, if any: AE-B-ZUB

(vi) Sales Commission, Fee, etc., Paid, Offered, or Agreed to be Paid: None

(vii) Sensitivity of Technology Contained in the Defense Article or Defense Services

Proposed to be Sold: See Attached Annex

(viii) Date Report Delivered to Congress: May 24, 2019

* As defined in Section 47(6) of the Arms Export Control Act.

POLICY JUSTIFICATION

UAE—JAVELIN Guided Missiles and Associated Materiel and Services

The Government of the United Arab Emirates (UAE) has requested to buy three hundred thirty-one (331) Javelin Guided Missiles with container. Also included are System Integration & Checkout (SICO) service; Field Service Representative; U.S. Government and contractor technical, engineering and logistics support services' tools and test equipment; support equipment; publications and technical documentation; spare and repair parts; and other related elements of logistics and program support. The estimated total case value is $102 million.

The Secretary of State has determined and provided detailed justification that an emergency exists that requires the immediate sale to the United Arab Emirates of the above defense articles (and defense services) in the national security interests of the United States, thereby waiving the Congressional review requirements under Section 36(b) of the Arms Export Control Act, as amended.

This proposed sale will contribute to the foreign policy and national security of the United States by improving the security of an important partner that has been, and continues to be, a force for political stability and economic progress in the Middle East. This sale is consistent with U.S. initiatives to provide key partners in the region with modern systems that will enhance interoperability with U.S. forces and increase security.

The proposed program will enhance the UAE's capability to meet current and future enemy threats. The UAE will use the capability as a deterrent to regional threats and to strengthen its homeland defense. The UAE previously procured Javelin missiles and will have no difficulty absorbing these additional missiles into its armed forces.

The proposed sale of this equipment and support will not alter the basic military balance in the region.

The prime contractor will be is Raytheon, Tucson, AZ. There are no known offset agreements proposed in connection with this potential sale.

Implementation of this proposed program will not require additional Contractor or U.S. Government personnel in country for an extended period of time.

There will be no adverse impact on U.S. defense readiness as a result of this proposed sale.

Transmittal No. 17-70

Notice of Proposed Issuance of Letter of Offer Pursuant to Section 36(b)(1) of the Arms Export Control Act

Annex Item No. vii

(vii) Sensitivity of Technology:

1. The Javelin Weapon System is a medium-range, man portable, shoulder-launched, fire and forget, anti-tank system for infantry, scouts, and combat engineers. It may also be mounted on a variety of platforms including vehicles, aircraft and watercraft. The system weighs 49.5 pounds and has a maximum range in excess of 2,500 meters. They system is highly lethal against tanks and other systems with conventional and reactive armors. The system possesses a secondary capability against bunkers.

2. Javelin's key technical feature is the use of fire-and-forget technology which allows the gunner to fire and immediately relocate or take cover. Additional special features are the top attack and/or direct fire modes, an advanced tandem warhead and imaging infrared seeker, target lock-on before launch, and soft launch from enclosures or covered fighting positions. The Javelin missile also has a minimum smoke motor thus decreasing its detection on the battlefield.

3. The Javelin Weapon System is comprised of two major tactical components, which are a reusable Command Launch Unit (CLU) and a round contained in a disposable launch tube assembly. The CLU incorporates an integrated day-night sight that provides a target engagement capability in adverse weather and countermeasure environments. The CLU may also be used in a stand-alone mode for battlefield surveillance and target detection. The CLU's thermal sight is a second generation Forward Looking Infrared (FLIR) sensor. To facilitate initial loading and subsequent updating of software, all on-board missile software is uploaded via the CLU after mating and prior to launch.

4. The missile is autonomously guided to the target using an imaging infrared seeker and adaptive correlation tracking algorithms. This allows the gunner to take cover or reload and engage another target after firing a missile. The missile has an advanced tandem warhead and can be used in either the top attack or direct fire modes (for target undercover). An onboard flight computer guides the missile to the selected target.

5. The Javelin Missile System hardware and the documentation are UNCLASSIFIED. The missile software which resides in the CLU is considered SENSITIVE. The sensitivity is primarily in the software programs which instruct the system how to operate in the presence of countermeasures. The overall hardware is also considered sensitive in that the infrared wavelengths could be useful in attempted countermeasure development.

6. If a technologically advanced adversary were to obtain knowledge of specific hardware, the information could be used to develop countermeasures which might reduce weapons system effectiveness or be used in the development of a system with similar or advanced capabilities.

7. A determination has been made that the United Arab Emirates can provide substantially the same degree of protection for sensitive technology being released as the U.S. Government. This proposed sustainment program is necessary to the furtherance of the U.S. foreign policy and national security objectives outlined in the policy justification.

8. All defense articles and services listed in this transmittal are authorized for release and export to the Government of United Arab Emirates.

[FR Doc. 2019-15750 Filed 7-23-19; 8:45 am]

BILLING CODE 5001-06-C